DEPARTMENT OF COMMERCE

International Trade Administration

[A-552-801]

Certain Frozen Fish Fillets From the Socialist Republic of Vietnam: Notice of Correction of the Antidumping Duty New Shipper Review Federal Register Notice

AGENCY: Enforcement and Compliance, International Trade Administration, Department of Commerce.

DATES: Effective August 3, 2016.

FOR FURTHER INFORMATION CONTACT: Paul Walker or Kenneth Hawkins, AD/CVD Operations, Office V, Enforcement and Compliance, International Trade Administration, U.S. Department of Commerce, 14th Street and Constitution Avenue NW., Washington, DC 20230; telephone: 202-482-0413 or 202-482-6491, respectively.

SUPPLEMENTARY INFORMATION: On July 7, 2016, the Department of Commerce (“the Department”) published in the Federal Register the 2014-2015 Final Results of the New Shipper Review on Fish Fillets from Vietnam.¹ The 2014-2015 Final Results of the New Shipper Review on Fish Fillets from Vietnam contained two errors.² Specifically, the period of review (“POR”) is incorrectly stated as August 1, 2014, to January 1, 2015. The correct POR is August 1, 2014, to January 31, 2015. In addition, we note the Vietnam-wide rate is $2.39/kilogram, not $2.35/kilogram. As a result, the 2014-2015 Final Results of the New Shipper Review on Fish Fillets from Vietnam are being corrected.

¹ See Certain Frozen Fish Fillets from the Socialist Republic of Vietnam: Final Results of Antidumping Duty New Shipper Review; 2014-2015, 81 FR 44272 (July 7, 2016) (“2014-2015 Final Results of the New Shipper Review on Fish Fillets from Vietnam”).

² Id.

This correction to the Federal Register notice is issued and published in accordance with section 777(i)(1) of the Tariff Act of 1930, as amended.

Dated July 28, 2016.
Christian Marsh,
Deputy Assistant Secretary for Antidumping and Countervailing Duty Operations.

[FR Doc. 2016-18415 Filed 8-2-16; 8:45 am]

BILLING CODE 3510-DS-P